EXECUTIVE OFFICE OF THE PRESIDENT

Office of National Drug Control Policy

Designation of 14 Counties as High Intensity Drug Trafficking Areas

AGENCY: Office of National Drug Control Policy.

ACTION: Notice of HIDTA designations.

SUMMARY: The Director of the Office of National Drug Control Policy designated 14 additional counties as High Intensity Drug Trafficking Areas (HIDTA) pursuant to 21 U.S.C. 1706. The new counties are (1) Blount County, Tennessee and Carroll and Grayson Counties (including the Independent City of Galax) in Virginia as part of the Appalachia HIDTA; (2) Escambia and Santa Rosa Counties in Florida as part of the Gulf Coast HIDTA; (3) Muskegon County, Michigan as part of the Michigan HIDTA; (4) Bristol County, Massachusetts as part of the New England HIDTA; (5) Broome and Ulster Counties in New York as part of the New York/New Jersey HIDTA; (6) Linn County, Oregon as part of the Oregon-Idaho HIDTA; (7) McIntosh and Pittsburg Counties in Oklahoma as part of the Texoma HIDTA; (8) Carroll County, Maryland and Jefferson County, West Virginia as part of the Washington/Baltimore HIDTA.

FOR FURTHER INFORMATION CONTACT: Questions regarding this notice should be directed to Michael K. Gottlieb, National HIDTA Program Director, Office of National Drug Control Policy, Executive Office of the President, Washington, DC 20503; (202) 395-4868.

Dated: January 14, 2016.
Michael Passante,
Deputy General Counsel.

[FR Doc. 2016-04291 Filed 2-26-16; 8:45 am]

BILLING CODE 3280-F5-P